DEPARTMENT OF STATE

[Public Notice: 12082]

U.S. Advisory Commission on Public Diplomacy; Notice of Meeting

The U.S. Advisory Commission on Public Diplomacy (ACPD) will hold a virtual public meeting on Wednesday, June 14, 2023, from 2:00 p.m. until 3:15 p.m. ET focusing on the “Use of Artificial Intelligence in Public Diplomacy.” During the meeting, a distinguished panel of experts will examine the use of AI tools in support of public diplomacy initiatives for a global community of PD practitioners, scholars, and policymakers.

This meeting is open to the public, including the media and members and staff of governmental and non-governmental organizations. To obtain the Zoom conference link and password, please register here: https://statedept.zoomgov.com/webinar/register/WN_4E4sqpmuS-6A0G-UUo7gxw. To request reasonable accommodation, please email ACPD Program Assistant Kristy Zamary at ZamaryKK@state.gov. Please send any request for reasonable accommodation no later than Monday, May 29, 2023. Requests received after that date will be considered but might not be possible to fulfill.

Since 1948, the ACPD has been charged with appraising activities intended to understand, inform, and influence foreign publics and to increase the understanding of, and support for, these same activities. The ACPD conducts research that provides honest assessments of public diplomacy efforts, and disseminates findings through reports, white papers, and other publications. It also holds public symposiums that generate informed discussions on public diplomacy issues and events. The Commission reports to the President, Secretary of State, and Congress and is supported by the Office of the Under Secretary of State for Public Diplomacy and Public Affairs.

For more information on the U.S. Advisory Commission on Public Diplomacy, please visit https://www.state.gov/bureaus-offices/under-secretary-for-public-diplomacy-and-public-affairs/united-states-advisory-commission-on-public-diplomacy/, or contact Executive Director Vivian S. Walker at WalkerVS@state.gov or Senior Advisor Deneyse Kirkpatrick at kirkpatrickda2@state.gov.

Authority: 22 U.S.C. 2651a, 22 U.S.C. 1469, 5 U.S.C. 1001 et seq., and 41 CFR 102-3.150.

Vivian S. Walker,
Executive Director, U.S. Advisory Commission on Public Diplomacy, Department of State.

[FR Doc. 2023-10714 Filed 5-18-23; 8:45 am]

BILLING CODE 4710-45-P